DEPARTMENT OF THE INTERIOR

Geological Survey

[GX25GA00EZ50000; OMB Control Number 1028-NEW]

Agency Information Collection Activities; Submission to the Office of Management and Budget for Review and Approval; Comment Request; U.S. Geological Survey, Generic Clearance for Natural Hazard Disaster-Related Data Collection

AGENCY: U.S. Geological Survey, Interior.

ACTION: Notice of information collection; request for comment.

SUMMARY: In accordance with the Paperwork Reduction Act (PRA) of 1995, the United States Geological Survey (USGS, we) is proposing a new information collection.

DATES: Interested persons are invited to submit comments. To be considered, your comments must be received on or before July 17, 2025.

ADDRESSES: You may submit comments by one of the following methods:

Internet: https://www.regulations.gov. Search for and submit comments on Docket No. USGS-2025-0013.

U.S. Mail: USGS, Information Collections Clearance Officer, 12201 Sunrise Valley Drive, MS 159, Reston, VA 20192.

FOR FURTHER INFORMATION CONTACT: Jack Friedman by email at jfriedman@usgs.gov, or by telephone at 608-636-0796. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the PRA (44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

On August 1, 2024, USGS published a 60-day Federal Register notice (89 FR 62778). The 60-day comment period ended on September 30, 2024. No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How the agency might minimize the burden of the collection of information on those who are to respond, including through the use of appropriate automated, electronic, mechanical, or other technological collection techniques or other forms of information technology, e.g., permitting electronic submission of response.

Comments that you submit in response to this notice are a matter of public record. Before including your address, phone number, email address, or other personally identifiable information (PII) in your comment, you should be aware that your entire comment—including your PII—may be made publicly available at any time. While you can ask us in your comment to withhold your PII from public review, we cannot guarantee that we will be able to do so.

Abstract: The mission of the USGS is to serve the Nation by providing reliable scientific information to describe and understand the Earth; minimize loss of life and property from natural disasters (e.g., 42 U.S.C. 5121; 5132 Disaster Relief Act of 1974, Section 202(a)); manage water, biological, energy, and mineral resources (e.g., 42 U.S.C. 300(f); 42 U.S.C. 2021(b); 42 U.S.C. 4321); and enhance and protect our quality of life (e.g., 42 U.S.C. 7701; USGS, SM 120.1.2). Regarding hazard events, the USGS provides information needed by its customers before, during, and after hazard events to minimize the loss of life and property. Hazards include, but are not limited to, earthquakes (42 U.S.C. 7701), volcanoes (43 U.S.C. 31k), landslides (43 U.S.C. 49 3102; Pub. L. 116-323; H.R. 8810), geomagnetic (solar) storms, floods, drought, coastal erosion, tsunamis, wildland fire, wildlife disease, and other biological and chemical threats (USGS, SM 120.1.3.A).

Part of the USGS's function is to communicate with emergency managers, public safety officials, and others during hazard events and to conduct post-crisis analysis (USGS, SM 120.1.3.A.6-7). With this in mind, the USGS proposes to conduct a number of data collection efforts within the topic areas of hazards preparedness, response, and recovery studies, and community resilience and sustainability. These efforts include studies of specific disaster events (e.g., wildfire, hurricane, earthquake, volcano, landslide, tsunami, geomagnetic (i.e., space weather), and flood); assessments of the effectiveness of USGS science to meet the needs of emergency managers, public safety officials, and others; and evaluations of the usability and utility of USGS natural hazard-related guidance or other products.

These data collection efforts may be either qualitative or quantitative in nature or may consist of mixed methods. Additionally, data may be collected via a variety of means, including but not limited to electronic or social media, direct or indirect observation (i.e., in person video and audio collections), interviews, questionnaires, and focus groups. The USGS will limit its inquiries to data collections that solicit strictly voluntary opinions or responses. The data collected will be used to decrease negative impacts of hazard events on society, improve the flow of actionable information to emergency managers and public safety officers, and, in turn, increase community resilience within the United States. Steps will be taken to protect confidentiality of respondents in each activity covered by this request.

The USGS will utilize this information collection to conduct research in support of topic areas of natural hazard-related disaster studies and community resilience. This type of research is directly related to a range of hazards that are unpredictable in their number and scale during a given year. Additionally, some hazard events may require multiple studies resulting in multiple collections. Therefore, in light of the uncertainties regarding the frequency and extent of severe hazard events, the USGS is requesting the ICR annual response allotment be set at 4,500 responses and the ICR annual hours allotment at 2,000 hours.

The USGS will collect this information by electronic means, when possible, as well as by mail, fax, telephone, technical discussions, and in-person interviews. The USGS may also utilize observational techniques to collect this information.

Title of Collection: Generic Clearance for Hazard Event-Related Data Collection.

OMB Control Number: 1028-NEW.

Form Number: None.

Type of Review: New.

Respondents/Affected Public: Individuals or households; emergency managers; first responders; weather forecasters; members of the media; water, power, transportation, and communications infrastructure operators; businesses or other for-profit organizations; not-for-profit institutions; State, local or Tribal government; Federal government; standards-making bodies; universities.

Total Estimated Number of Annual Respondents: 2,500.

Total Estimated Number of Annual Responses: 4,500 (2,500 15-minute surveys with the original respondent pool of 2,500; 1,500 15-minute follow-up surveys with the original respondent pool of 2,500; 500 2-hour follow-up interviews with the original respondent pool of 2,500).

Estimated Completion Time per Response: Varied, dependent upon the data collection method used. The possible response time to complete a questionnaire may be 15 minutes or 2 hours to participate in an interview.

Total Estimated Number of Annual Burden Hours: 2,000 Hours.

Respondent's Obligation: Voluntary.

Frequency of Collection: The vast majority will be one-time data collection. It is possible that follow-up data collection (pre-/post-conditions) could occur if data are collected from respondents who are impacted by more than one hazard-related incident or a prolonged incident, but we expect this to be very rare.

Total Estimated Annual Nonhour Burden Cost: None.

An agency may not conduct or sponsor, nor is a person required to respond to a collection of information unless it displays a currently valid OMB control number.

The authority for this action is the PRA of 1995 (44 U.S.C. 3501 et seq.).

James D. Applegate,
Acting Associate Director for Natural Hazards.

[FR Doc. 2025-11084 Filed 6-16-25; 8:45 am]

BILLING CODE 4338-11-P